DEPARTMENT OF THE INTERIOR

Bureau of Land Management

[AK-930-5420-FR-L030; AA-85443, AA-85444, AA-85445, AA-85447]

Notice of Applications for Recordable Disclaimers of Interest for Lands Underlying Chilkat Lake, Chilkat River, Tsirku River, and Klehini River in Southeast Alaska

AGENCY: Bureau of Land Management, Interior.

ACTION: Notice.

SUMMARY: The State of Alaska has filed applications for recordable disclaimers of interest in certain lands underlying Chilkat Lake, Chilkat River, Tsirku River, and Klehini River in Southeast Alaska by the United States.

DATES: Comments on the State of Alaska's applications should be submitted on or before August 15, 2006. Comments on the BLM Draft Navigability Report should be submitted on or before July 17, 2006.

ADDRESSES: Comments should be sent to the Chief, Branch of Lands and Realty, BLM Alaska State Office, 222 West 7th Avenue #13, Anchorage, Alaska 99513-7599.

FOR FURTHER INFORMATION CONTACT: Callie Webber at 907-271-3167 or you may visit the BLM recordable disclaimer of interest Web site at http://www.ak.blm.gov.

SUPPLEMENTARY INFORMATION: On May 12, 2004, the State of Alaska (State) filed applications for recordable disclaimers of interest pursuant to Section 315 of the Federal Land Policy and Management Act and the regulations contained in 43 CFR Subpart 1864 for lands underlying Chilkat Lake (AA-85433), Chilkat River (AA-85444), Klehini River (AA-85445), and Tsirku River (AA-85447), all located in southeast Alaska. A recordable disclaimer of interest, if issued, will confirm the United States has no valid interest in the subject lands. The notice is intended to notify the public of the pending applications and the State's grounds for supporting it. The State asserts that these water bodies are navigable and under the Equal Footing Doctrine, Submerged Lands Act of 1953, Alaska Statehood Act, and the Submerged Lands Act of 1988, ownership of these submerged lands automatically passed from the United States to the State at the time of statehood in 1959.

On June 23, 2005, the State amended its Chilkat Lake application to include Clear Creek. The State's application for Chilkat Lake (AA-85443) is for “all submerged lands lying within the bed of Clear Creek between the ordinary high water line of the left and right banks in Sections 11 and 14, Township 29 South, Range 56 East, and all submerged lands encompassed by the ordinary high water line of Chilkat Lake, in Township 30 South, Range 57 East, Copper River Meridian, Alaska.” The State's application for Chilkat River (AA-85444) is for “all submerged lands lying within the bed of the Chilkat River between the ordinary high water lines of the left and right banks, and all interconnecting sloughs of the Chilkat River, beginning at the Alaska/Canada International border within Township 25 South, Range 56 East, Copper River Meridian, Alaska downstream to all points of confluence with Chilkat Inlet within Townships 30 and 31 South, Range 59 East, Copper River Meridian, Alaska.” The State's application for Klehini River (AA-85445) is for “all submerged lands within the bed of the Klehini River between the ordinary high water lines of the left and right banks, and all interconnecting sloughs of the Klehini River, beginning at the Alaska/Canada border within Township 28 South, Range 53 East, Copper River Meridian, Alaska downstream to its confluence with Chilkat River within Township 28 South, Range 56 East, Copper River Meridian, Alaska.” The State's application for Tsirku River (AA-85447) is for “all submerged lands lying within the bed of the Tsirku River between the ordinary high water lines of the left and right banks, and all interconnecting sloughs of the Tsirku River, beginning in Section 1, Township 30 South, Range 53 East, Copper River Meridian, Alaska downstream to its confluence with Chilkat River within Townships 28 and 29 South, Ranges 56 and 57 East, Copper River Meridian, Alaska.” The State did not identify any known adverse claimant or occupant of the affected lands.

A final decision on the merits of the applications will not be made before August 15, 2006. During the 90-day period, interested parties may comment upon the State's applications, AA-85443, AA-85444, AA-85445, and AA-85447, and supporting evidence. Interested parties may comment on the evidentiary evidence presented in the BLM's Draft Navigability Report on or before July 17, 2006.

Comments, including names and street addresses of commenters, will be available for public review at the Alaska State Office (see address above), during regular business hours 7:30 a.m. to 4:30 p.m., Monday through Friday, except holidays. Individual respondents may request confidentiality. If you wish to hold your name or address from disclosure under the Freedom of Information Act, you must state this prominently at the beginning of your comments. Such requests will be honored to the extent allowed by law. All submissions from organizations or businesses will be made available for public inspection in their entirety.

Dated: February 28, 2006.
Russell D. Blome,
Acting Chief, Branch of Lands and Realty.

[FR Doc. E6-7400 Filed 5-16-06; 8:45 am]

BILLING CODE 4310-JA-P